DEPARTMENT OF ENERGY

Federal Energy Regulatory Commission

[Project No. 2354-087]

Georgia Power Company; Notice of Application for Amendment of License and Soliciting Comments, Motions To Intervene, and Protests

June 29, 2005.

Take notice that the following application has been filed with the Commission and is available for public inspection.

a. Type of Application: Amendment of license that would allow the Clayton-Rabun County Water and Sewer Authority (Authority) to increase its water withdrawal from Lake Rabun for municipal water supply from 2.0 million gallons per (mgd) to 3.5 mgd.

b. Project Number: P-2354-087.

c. Date Filed: June 2, 2005.

d. Applicant: Georgia Power Company.

e. Name of Project: North Georgia Project (FERC No. 2354).

f. Location: Lake Rabun on the Tallulah River, Rabun County, Georgia.

g. Filed Pursuant to: Federal Power Act, 16 U.S.C. 791(a), 825(r).

h. Applicant Contact: Mr. Scott Hendricks, Georgia Power Company, 241 Ralpy McGill Boulevard NE, Bin 10151, Atlanta, GA 30308.

i. FERC Contact: Any questions on this notice should be addressed to Mr. John K. Novak at (202) 502-6076, or e-mail address: john.novak@ferc.gov.

j. Deadline for filing comments and or motions: 30 days from date of issuance of this notice.

k. Description of Request: Georgia Power Company is requesting Commission authorization to permit the Authority to increase its water withdrawal from Lake Rabun from 2.0 mgd to 3.5 mgd to accommodate expected growth in the Authority's service area. The proposal would involve the replacement of the existing 10-inch piping from the intake pumps to the distribution main with 16-inch piping. No significant construction activity would be required within the project boundary.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers (P-2354-087). All documents (original and eight copies) should be filed with: Magalie R. Salas, Secretary, Federal Energy Regulatory Commission, 888 First Street, NE., Washington DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E5-3567 Filed 7-6-05; 8:45 am]

BILLING CODE 6717-01-P